DEPARTMENT OF HOMELAND SECURITY

Federal Emergency Management Agency

44 CFR Part 65

[Docket ID FEMA-2008-0020; Internal Agency Docket No. FEMA-B-1055]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Arizona:
Maricopa | Town of Gilbert (08-09-1488P) | April 23, 2009; April 30, 2009; Arizona Business Gazette | The Honorable Steven M. Berman, Mayor, Town of Gilbert, 50 East Civic Center Drive, Gilbert, AZ 85296 | April 8, 2009 | 040044
Maricopa | Unincorporated areas of Maricopa County (08-09-1488P) | April 23, 2009; April 30, 2009; Arizona Business Gazette | The Honorable Andrew W. Kunasek, Chairman, Maricopa County, Board of Supervisors, 301 West Jefferson Street, 10th Floor, Phoenix, AZ 85003 | April 8, 2009 | 040037
Maricopa | Town of Queen Creek (08-09-1488P) | April 23, 2009; April 30, 2009; Arizona Business Gazette | The Honorable Art Sanders, Mayor, Town of Queen Creek, 22350 South Ellsworth Road, Queen Creek, AZ 85242 | April 8, 2009 | 040132
Navajo | Unincorporated areas of Navajo County (08-09-1857P) | April 22, 2009; April 29, 2009; The Tribune News | The Honorable J.R. Despain, Chairman, Navajo County, Board of Supervisors, P.O. Box 668, Holbrook, AZ 86025 | August 27, 2009 | 040066
Florida: Polk | Unincorporated areas of Polk County (09-04-1385P) | April 8, 2009; April 15, 2009; The Polk County Democrat | The Honorable Sam Johnson, Chairman, Polk County Board of Commissioners, P.O. Box 9005, Drawer BC01, Bartow, FL 33831-9005 | August 13, 2009 | 120261
Idaho: Blaine | Unincorporated areas of Blaine County (09-10-0307P) | April 22, 2009; April 29, 2009; Idaho Mountain Express | The Honorable Tom Bowman, Chairman, Blaine County Board of Commissioners, 206 First Street South, Suite 300, Hailey, ID 83333 | April 14, 2009 | 165167
Iowa:
Crawford | City of Denison (08-07-1528P) | April 10, 2009; April 17, 2009; Denison Bulletin & Review | The Honorable Nathan Mahrt, Mayor, City of Denison, P.O. Box 668, Denison, IA 51442 | August 17, 2009 | 190096
Polk | City of Ankeny (08-07-1252P) | April 22, 2009; April 29, 2009; Des Moines Register | The Honorable Steve Van Oort, Mayor, City of Ankeny, 410 West First Street, Ankeny, IA 50023 | April 13, 2009 | 190226
Missouri: St. Louis | City of Richmond Heights (09-07-0908P) | April 30, 2009; May 7, 2009; The Countian | The Honorable James J. Beck, Mayor, City of Richmond Heights, 1330 South Big Bend Boulevard, Richmond Heights, MO 63117 | September 8, 2009 | 290380
Montana:
Flathead | Unincorporated areas of Flathead County (08-08-0361P) | May 1, 2009; May 8, 2009; Daily Inter Lake | The Honorable Dale W. Lauman, Chairman, Flathead County Board of Commissioners, 800 South Main Street, Kalispell, MT 59901 | April 21, 2009 | 800023
Stillwater | Unincorporated areas of Stillwater County (07-08-0854P) | July 17, 2008; July 24, 2008; Stillwater County News | The Honorable Dennis R. Hoyem, Chairman, Stillwater County Board of Commissioners, P.O. Box 970, Columbus, MT 59019 | November 24, 2008 | 300078
North Carolina:
Orange | Town of Chapel Hill (09-04-1756P) | March 26, 2009; April 2, 2009; Chapel Hill Herald | The Honorable Kevin C. Foy, Mayor, Town of Chapel Hill, Mayor's Office, 405 Martin Luther King Jr. Boulevard, Chapel Hill, NC 27514 | July 31, 2009 | 370180
Wake | Wake County (Unincorporated Areas) (08-04-5834P) | March 13, 2009; March 20, 2009; The News & Observer | Mr. David C. Cooke, Manager, Wake County, P.O. Box 550, Suite 1100, Raleigh, NC 27602 | July 17, 2009 | 370368
Wake | Town of Holly Springs (08-04-5834P) | March 13, 2009; March 20, 2009; The News & Observer | The Honorable Dick Sears, Mayor, Town of Holly Springs, P.O. Box 8, Holly Springs, NC 27540 | July 17, 2009 | 370403
Texas:
Hunt | Unincorporated areas of Hunt County (08-06-1912P) | April 22, 2009; April 29, 2009; Herald Banner | The Honorable John Horn, Hunt County Judge, P.O. Box 1097, Greenville, TX 75403 | April 10, 2009 | 480363
Tarrant | City of Arlington (09-06-0207P) | March 30, 2009; April 6, 2009; Star Telegram | The Honorable Robert N. Cluck, Mayor, City of Arlington, 101 West Abram Street, Arlington, TX 76004 | August 4, 2009 | 485454
Tarrant | City of Fort Worth (08-06-1200P) | April 7, 2009; April 14, 2009; Star Telegram | The Honorable Michael J. Moncrief, Mayor, City of Fort Worth, 1000 Throckmorton Street, Fort Worth, TX 76102 | March 27, 2009 | 480596
Wisconsin: St. Croix | Village of Baldwin (09-05-1751P) | April 28, 2009; May 5, 2009; The Baldwin Bulletin | The Honorable Donald McGee, President, Village of Baldwin, P.O. Box 97, Baldwin, WI 54002 | April 16, 2009 | 550380

(Catalog of Federal Domestic Assistance No. 97.022, “Flood Insurance.”)

Dated: June 9, 2009.
Edward L. Connor,
Acting Assistant Administrator, Mitigation Directorate, Department of Homeland Security, Federal Emergency Management Agency.

[FR Doc. E9-14278 Filed 6-16-09; 8:45 am]

BILLING CODE 9110-12-P